ELECTION ASSISTANCE COMMISSION

Procedural Manual for the Election Assistance Commission's Voting System Test Laboratories Program Manual, Version 2.0

AGENCY: United States Election Assistance Commission (EAC).

ACTION: Notice; publication of Voting System Test Laboratories Program Manual, Version 2.0, for 60 day public comment period on EAC Web site.

SUMMARY: The U.S. Election Assistance Commission (EAC) is publishing a procedural manual for its Voting System Testing and Certification Program. This manual sets the administrative procedures for becoming an EAC accredited test laboratory and guidelines for VSTL participation in the EAC Testing and Certification Program. The program is mandated by the Help America Vote Act (HAVA) at 42 US.C. 15371.

SUPPLEMENTARY INFORMATION: Background. HAVA requires that the EAC provide for the accreditation and revocation of accreditation of independent, non-federal laboratories qualified to test voting systems to Federal standards (Section 231(b) of HAVA (42 US.C. 15371(b))). Generally, the EAC considers for accreditation those laboratories evaluated and recommended by the National Institute of Standards and Technology (NIST). The Voting System Test Laboratory Program Manual, published below, sets the procedures for this program.

EAC is required to resubmit the Testing and Certification Manual for renewal in accordance with Paperwork Reduction Act of 1995 requirements. The Testing and Certification Division has updated sections of the manual to reflect proposed changes in certification procedures. These sections are highlighted for ease of review.

Comments. Please submit comments consistent with the information below. Comments should identify and cite the section of the manual at issue. Where a substantive issue is raised, please propose a recommended change or alternative policy.

Comments are also invited on: (a) Whether the proposed collection of information is necessary for the proper performance of the functions of the agency, including whether the information shall have practical utility; (b) the accuracy of the agency's estimate of the burden of the proposed information collection, including the validity of the methodology and assumptions used; (c) ways to enhance the quality, utility, and clarity of the information to be collected; and (d) ways to minimize the burden of the information collection on respondents. This notice is published in accordance with the Paperwork Reduction Act of 1995, to request comments regarding the burden of responding to the information collection activities of the proposed manual; please refer to the EAC's Web site, www.eac.gov, for further information about the submission of comments regarding burden.

DATES: Submit written or electronic comments on this draft procedural manual on or before 5:00 p.m. EDT on June 17, 2013.

ADDRESSES: Submit comments via email to VotingSystemGuidelines@eac.gov; via mail to Brian Hancock, Director of Voting System Certification, U.S. Election Assistance Commission, 1201 New York Avenue, Suite 300, Washington, DC 20005; or via fax to 202-566-1392. An electronic copy of the proposed manual may be found on the EAC's Web site http://www.eac.gov/open/comment.aspx.

FOR FURTHER INFORMATION CONTACT: Brian Hancock, Director, Voting System Certification, Washington, DC, (202) 566-3100, Fax: (202) 566-1392.

Alice Miller,
Chief Operating Officer and Acting Executive Director, U.S. Election Assistance Commission.

[FR Doc. 2013-08832 Filed 4-15-13; 8:45 am]

BILLING CODE 6820-KF-P